DEPARTMENT OF THE INTERIOR

Bureau of Land Management

[CO-921-06-1320-EL; COC 67514]

Notice of Federal Competitive Coal Lease Sale, CO

AGENCY: Bureau of Land Management, Interior.

ACTION: Notice of Competitive Coal Lease Sale, Lease Application COC 67514.

SUMMARY: Notice is hereby given that the United States Department of the Interior, Bureau of Land Management (BLM), Colorado State Office, will offer certain coal resources in the Wadge seam in Routt County, Colorado, hereinafter described as Federal coal lease application (LBA) COC 67514 for competitive lease by sealed bid in accordance with the provisions for competitive lease sales in 43 CFR 3422.2(a), and the Mineral Leasing Act of 1920, as amended and supplemented (30 U.S.C. 181 et seq.).

DATES: The lease sale will be held at 11 a.m., Thursday, October 12, 2006. Sealed bids must be sent by certified mail, return receipt requested, or be hand delivered to the address indicated below, and must be received on or before 10 a.m., Thursday, October 12, 2006. The cashier will issue a receipt for each hand delivered sealed bid. Any bid received after the time specified will not be considered and will be returned. The outside of the sealed envelope containing the bid must clearly state that the envelope contains a bid for Coal Lease Sale COC 67514, and is not to be opened before the date and hour of the sale.

ADDRESSES: The lease sale will be held in the BLM Colorado State Office, Conference Room, Fourth Floor, 2850 Youngfield Street, Lakewood, Colorado. Sealed bids must be submitted, hand delivered or mailed to the Cashier, BLM Colorado State Office, 2850 Youngfield Street, Lakewood, Colorado 80215.

FOR FURTHER INFORMATION CONTACT: Contact Karen Zurek at BLM Colorado State Office, 2850 Youngfield Street, Lakewood, Colorado 80215 or telephone 303-239-3795.

SUPPLEMENTARY INFORMATION: The coal resource to be offered consists of all recoverable coal reserves to be mined by underground mining methods in the following lands:

T. 5 N., R. 86 W., 6th P.M.

sec. 5, lot 4, SW¼NE¼, S½NW¼, and NW¼SE¼.

Containing approximately 200.36 acres in Routt County, Colorado.

Total recoverable reserves are estimated to be 2.1 million tons. The underground minable coal is ranked as high volatile C bituminous coal. The estimated coal quality on an as-received basis as follows:

Wadge Seam
BTU | 11,556 BTU/lb. (percent)
Volatile Matter | 37.00
Fixed Carbon | 47.00
Moisture | 9.74
Sulfur Content | 0.41
Ash Content | 7.78

The tract will be leased to the qualified bidder of the highest cash amount, provided that the high bid meets the fair market value (FMV) for the tract as determined by the authorized officer after the Sale. The Department of the Interior has established a minimum bid of $100 per acre or fraction thereof for Federal coal tracts. The minimum bid is not intended to represent FMV. In the event identical high sealed bids are received, the tying high bidders will be requested to submit follow-up bids until a high bid is received. All tie-breaking sealed bids must be submitted within 15 minutes following the Sale Official's announcement at the sale that identical high bids have been received.

Rental and Royalty. The lease issued as a result of this offering will provide for payment of an annual rental of $3.00 per acre or fraction thereof and a royalty payable to the United States of 8 percent of the value of coal mined by underground methods. The value of the coal will be determined in accordance with 30 CFR 206.250.

Notice of availability: Bidding instructions for the offered tract are included in the Detailed Statement of Coal Lease Sale. Copies of the Detailed Statement and the proposed coal lease are available upon request in person or by mail from the Colorado State Office at the address given above. The case file is available for inspection in the Public Room, Colorado State Office, during normal business hours at the address given above.

Dated: June 30, 2006.
Karen Zurek,
Solid Minerals Staff, Division of Energy, Lands and Minerals.

[FR Doc. E6-12438 Filed 8-1-06; 8:45 am]

BILLING CODE 4310-JB-P